DEPARTMENT OF TRANSPORTATION

Federal Aviation Administration

14 CFR Part 97

[Docket No. 30438; Amdt. No. 3116]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective February 18, 2005. The compliance date for each SIAP is specified in the amendatory provisions.

The incorporation by reference of certain publications listed in the regulations is approved by the Director of the Federal Register as of February 18, 2005.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The National Archives and Records Administration (NARA). For information on the availability of this material at NARA, call (202) 741-6030, or go to: http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: PO Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on February 10, 2005.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 17 March 2005

Arkadelphia, AR, Dexter B. Florence Memorial Field, RNAV (GPS) RWY 4, Orig

Arkadelphia, AR, Dexter B. Florence Memorial Field, NDB RWY 4, Amdt 7

Arkadelphia, AR, Dexter B. Florence Memorial Field, GPS RWY 4, Orig-A, CANCELLED

Orlando, FL, Kissimmee Gateway, GPS RWY 15, Orig-B, CANCELLED

Orlando, FL, Kissimmee Gateway, RNAV (GPS) RWY 15, Orig

Pullman/Moscow, ID/WA, Pullman Moscow Regional, VOR RWY 5, Amdt 8

Pullman/Moscow, ID/WA, Pullman Moscow Regional, VOR/DME-A, Amdt 1

Pullman/Moscow, ID/WA, Pullman Moscow Regional, RNAV (GPS) RWY 23, Orig

Peoria, IL, Greater Peoria Regional, ILS OR LOC RWY 31, Amdt 6

Peoria, IL, Greater Peoria Regional, NDB RWY 31, Amdt 15

Madison, IN, Madison Muni, RNAV (GPS) RWY 3, Orig

Madison, IN, Madison Muni, NDB RWY 3, Amdt 4

Madison, IN, Madison Muni, VOR/DME RWY 3, Amdt 8

Dodge City, KS, Dodge City Regional, RNAV (GPS) RWY 14, Orig

Dodge City, KS, Dodge City Regional, RNAV (GPS) RWY 32, Orig

Dodge City, KS, Dodge City Regional, GPS RWY 14, Orig-A, CANCELLED

Olathe, KS, New Century Aircenter, RNAV (GPS) RWY 17, Amdt 1

Olathe, KS, New Century Aircenter, RNAV (GPS) RWY 35, Amdt 1

Auburn-Lewiston, ME, Auburn-Lewiston Muni, RNAV (GPS) RWY 4, Orig

Auburn-Lewiston, ME, Auburn-Lewiston Muni, RNAV (GPS) RWY 22, Orig

Auburn-Lewiston, ME, Auburn-Lewiston Muni, ILS OR LOC RWY 4, Amdt 10

Auburn-Lewiston, ME, Auburn-Lewiston Muni, NDB RWY 4, Amdt 11

Auburn-Lewiston, ME, Auburn-Lewiston Muni, VOR/DME-A, Amdt 1

Columbus, OH, Rickenbacker International, ILS OR LOC RWY 5L, Orig

Portland, OR, Portland Intl, NDB RWY 28L, Amdt 5

Portland, OR, Portland Intl, ILS OR LOC RWY 10L, Amdt 2

Portland, OR, Portland Intl, ILS OR LOC RWY 10R, Amdt 32, ILS RWY 10R (CAT II), ILS RWY 10R (CAT III), Amdt 32

Portland, OR, Portland Intl, ILS OR LOC RWY 28L, Amdt 1

Portland, OR, Portland Intl, ILS OR LOC RWY 28R, Amdt 13

Portland, OR, Portland Intl, RNAV (GPS) RWY 10R, Orig

Portland, OR, Portland Intl, RNAV (GPS) RWY 10L, Orig

Portland, OR, Portland Intl, RNAV (GPS) RWY 28L, Orig

Portland, OR, Portland Intl, RNAV (GPS) RWY 28R, Orig

Monongahela, PA, Rostraver, VOR-A, Amdt 5

Monongahela, PA, Rostraver, RNAV (GPS) RWY 8, Orig

Monongahela, PA, Rostraver, RNAV (GPS) RWY 26, Orig

Monongahela, PA, Rostraver, GPS RWY 26, Orig-B, CANCELLED

* * * Effective 14 April 2005

Annapolis, MD, Lee, RNAV (GPS) RWY 30, Orig-B

Atlanta, GA, Hartsfield-Jackson Atlanta Intl, ILS OR LOC RWY 8R, Amdt 58C

* * * Effective 12 May 2005

Rifle, CO, Garfield County Regional, LOC/DME-A, Amdt 6B

Rifle, CO, Garfield County Regional, ILS RWY 26, ORIG-B

Freeport, IL, Albertus, NDB RWY 6, Orig-C, CANCELLED

Dyersburg, TN, Dyersburg Muni, RNAV (GPS) RWY 4, Amdt 1

Dyersburg, TN, Dyersburg Muni, RNAV (GPS) RWY 22, Orig

Dyersburg, TN, Dyersburg Muni, NDB RWY 4, Amdt 1

Dyersburg, TN, Dyersburg Muni, VOR-A, Amdt 17

The FAA published an Amendment in Docket No. 30435, Amdt No. 3114 to Part 97 of the Federal Aviation Regulations (Vol 70, FR No. 18, page 4011; dated January 28, 2005) under section 97.33 effective 17 MAR 2005, which is hereby rescinded:

Perryville, AK, Perryville, RNAV (GPS) RWY 3, Orig

The FAA published an Amendment in Docket No. 30431, Amdt No. 3111 to Part 97 of the Federal Aviation Regulations (Vol 69, FR No. 239, page 74416; dated December 14, 2004) under section 97.33 effective 17 MAR 2005, which is hereby rescinded:

Kalskag, AK, Kalskag, RNAV (GPS) RWY 6, Orig

Kalskag, AK, Kalskag, RNAV (GPS)-A, Orig

Kalskag, AK, Kalskag, GPS RWY 6, Orig-A, CANCELLED

Kalskag, AK, Kalskag, GPS RWY 24, Orig-A, CANCELLED

The FAA published an Amendment in Docket No. 30436, Amdt No. 3115 to Part 97 of the Federal Aviation Regulations (Vol 70, FR No. 24, page 6339; dated February 7, 2005) under section 97.33 effective 17 MAR 2005, which is hereby rescinded:

Cedar Rapids, IA, The Eastern Iowa, RNAV (GPS) RWY 13, Amdt 1

Cedar Rapids, IA, The Eastern Iowa, RNAV (GPS) RWY 31, Amdt 1

The FAA published an Amendment in Docket No. 30431, Amdt No. 3111 to Part 97 of the Federal Aviation Regulations (Vol 69, FR No. 239, page 74416; dated December 14, 2004) under section 97.33 effective 17 MAR 2005, which is hereby rescinded:

Madison, WI, Dane County Regional-Truax Field, RNAV (GPS) RWY 14, Amdt 1

Madison, WI, Dane County Regional-Truax Field, RNAV (GPS) RWY 18, Amdt 1

Madison, WI, Dane County Regional-Truax Field, RNAV (GPS) RWY 21, Amdt 1

Madison, WI, Dane County Regional-Truax Field, RNAV (GPS) RWY 32, Amdt 1

Madison, WI, Dane County Regional-Truax Field, RNAV (GPS) RWY 36, Amdt 1

Madison, WI, Dane County Regional-Truax Field, ILS OR LOC/DME RWY 18, Orig

Madison, WI, Dane County Regional-Truax Field, ILS OR LOC/DME RWY 21, Orig

Madison, WI, Dane County Regional-Truax Field, ILS OR LOC/DME RWY 36, Orig

Madison, WI, Dane County Regional-Truax Field, ILS RWY 18, Amdt 7C, CANCELLED

Madison, WI, Dane County Regional-Truax Field, ILS RWY 21, Orig-A, CANCELLED

Madison, WI, Dane County Regional-Truax Field, ILS RWY 36, Amdt 29D, CANCELLED

Madison, WI, Dane County Regional-Truax Field, RADAR-1, Amdt 17

The FAA published an Amendment in Docket No. 30435, Amdt No. 3114 to Part 97 of the Federal Aviation Regulations (Vol 70, FR No. 18, page 4012; dated January 28, 2005) under section 97.33 effective 17 MAR 2005, which is hereby amended as follows:

Dallas-Fort Worth, TX, Dallas/Fort Worth International, ILS RWY 35C (CAT II), Amdt 7, CANCELLED

[FR Doc. 05-3095 Filed 2-17-05; 8:45 am]

BILLING CODE 4910-13-P